ENVIRONMENTAL PROTECTION AGENCY

[EPA-HQ-OPP-2004-0048; FRL-8059-5]

Amitraz; Product Cancellation Order

AGENCY: Environmental Protection Agency (EPA).

ACTION: Notice.

SUMMARY: This notice announces EPA's order for the cancellations voluntarily requested by the registrant and accepted by the Agency, of products containing the pesticide amitraz, pursuant to section 6(f)(1) of the Federal Insecticide, Fungicide, and Rodenticide Act (FIFRA), as amended. This cancellation order follows a March 17, 2004 Federal Register Notice of Receipt of Requests from the amitraz registrant to voluntarily cancel all uses of its Ovasyn Insecticide/Miticide and Mitac W Insecticide product registrations. These are not the last amitraz products registered for use in the United States, but are the last amitraz products for the use sites of cotton and pears. In the March 17, 2004 Notice, EPA indicated that it would issue an order implementing the cancellations, unless the Agency received substantive comments within the 30 day comment period that would merit its further review of these requests, or unless the registrant withdrew its requests within this period. The Agency received no comments regarding the cancellation of Ovasyn Insecticide/Miticide and Mitac W Insecticide. Further, the registrant did not withdraw its requests. Accordingly, EPA hereby issues in this notice a cancellation order granting the requested cancellations. Any distribution, sale, or use of the amitraz products subject to this cancellation order is permitted only in accordance with the terms of this order, including any existing stocks provisions.

DATES: The cancellations are effective May 3, 2006.

FOR FURTHER INFORMATION CONTACT: Amaris Johnson, Special Review and Reregistration Division (7508P), Office of Pesticide Programs, Environmental Protection Agency, 1200 Pennsylvania Ave., NW., Washington, DC 20460-0001; telephone number: (703) 305-9542; fax number: (703) 308-8041; e-mail address: johnson.amaris@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. i. EPA has established a docket for this action under Docket identification number (ID) EPA-HQ-OPP-2004-0048. Publicly available docket materials are available electronically at http://www.regulations.gov.

ii. Important Note: OPP will be moving to a new location the first week of May 2006. As a result, from Friday, April 28 to Friday, May 5, 2006, the OPP Regulatory Public Docket will NOT be accepting any deliveries at the Crystal Mall #2 address and this facility will be closed to the public. Beginning on May 8, 2006, the OPP Regulatory Public Docket will reopen at 8:30 a.m. and deliveries will be accepted in Rm. S-4400, One Potomac Yard (South Building), 2777 S. Crystal Drive, Arlington, VA 22202. The mail code for the mailing address will change to (7502P), but will otherwise remain the same. The OPP Regulatory Public Docket telephone number ((703) 305-5805) and hours of operation (8:30 a.m. to 4 p.m., Monday through Friday, excluding legal holidays) will remain the same after the move.

2. Electronic access. You may access this Federal Register document electronically through the EPA Internet under the “Federal Register” listings at http://www.epa.gov/fedrgstr/.

II. What Action is the Agency Taking?

This notice announces the cancellation, as requested by the registrant, of amitraz products Ovasyn Insecticide/Miticide and Mitac W Insecticide, registered under section 3 of FIFRA. These registrations are listed in sequence by registration number in the following Table 1:

Table 1.—Amitraz Product Cancellations
EPA Registration No. | Product Name
264-625 | Ovasyn Insecticide/Miticide
264-636 | Mitac W Insecticide

Table 2 of this unit includes the name and address of record for the registrant of the products in Table 1.

Table 2.—Registrant of Cancelled Amitraz Products
EPA Company No. | Company Name and Address
264 | Bayer CropScience 2 T.W. Alexander Drive Research Triangle Park, NC 27709

III. Summary of Public Comments Received and Agency Response to Comments

During the public comment period provided, EPA received no comments in response to the March 17, 2004 Federal Register notice announcing the Agency's receipt of the requests for voluntary cancellations and amendments to terminate uses of amitraz.

IV. Cancellation Order

Pursuant to FIFRA section 6(f), EPA hereby approves the requested cancellations of amitraz registrations identified in Table 1 of Unit II. Accordingly, the Agency orders that the amitraz product registrations identified in Table 1 of Unit II are hereby canceled. Any distribution, sale, or use of existing stocks of the products identified in Table 1 of Unit II in a manner inconsistent with any of the Provisions for Disposition of Existing Stocks set forth below in Unit VI will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

The Agency has authorized the registrants to sell or distribute product under the previously approved labeling for a period of 18 months after the approval of the cancellation, unless other restrictions have been imposed, as in special review actions.

List of Subjects

Environmental protection, Pesticides and pests.

Dated: April 20, 2006.
Debra Edwards,
Director, Special Review and Reregistration Division, Office of Pesticide Programs.

[FR Doc. E6-6617 Filed 5-2-06; 8:45 am]

BILLING CODE 6560-50-S